DEPARTMENT OF TRANSPORTATION

Surface Transportation Board

[STB Ex Parte No. 656]

Motor Carrier Bureaus—Periodic Review Proceeding

AGENCY: Surface Transportation Board.

ACTION: Changes to prior notice issued in this proceeding and extension of filing dates.

SUMMARY: The Surface Transportation Board is correcting its notice served on December 13, 2004, and published in the Federal Register on December 17, 2004, to inform the public that Board authorization has not expired for the bureau agreements of two motor carrier rate bureaus—the Nationwide Bulk Trucking Association, Inc., and the Machinery Haulers Association, Inc. The Board is also amending its procedural schedule set forth in that notice to extend the deadlines for filing comments, by approximately 2 weeks, as shown below.

DATES: Opening comments may be filed by the motor carrier bureaus and any interested member of the public by March 2, 2005. Reply comments may be filed by April 1, 2005. Rebuttal comments may be filed by April 21, 2005.

ADDRESSES: Any filing submitted in this proceeding must refer to STB Ex Parte No. 656 and must be submitted either via the Board's e-filing format or in the traditional paper format. Any person using e-filing should comply with the instructions found on the Board's http://www.stb.dot.gov Web site, at the “E-FILING” link. Any person submitting a filing in the traditional paper format should send an original and 10 paper copies of the filing (and also an IBM-compatible floppy disk with any textual submission in any version of either Microsoft Word or WordPerfect) to: Surface Transportation Board, 1925 K Street, NW., Washington, DC 20423-0001. Because all comments will be posted to the Board's Web site, persons filing them with the Board need not serve them on other participants but must furnish a hard copy on request to any participant.

FOR FURTHER INFORMATION CONTACT: Joseph H. Dettmar (202) 565-1609. (Federal Information Relay Service for the hearing impaired: 1-800-877-8339.)

SUPPLEMENTARY INFORMATION: Under 49 U.S.C. 13703, the Board may authorize motor carriers (including motor carriers of passengers and household goods) to enter into “bureau” agreements for the collective establishment of rates, fares, classifications, and certain ancillary activities. Board authorization immunizes activities taken under the approved agreements from the antitrust laws. Under section 13703(c), the Board must, every 5 years, institute a proceeding to review the motor carrier bureau agreements previously approved under section 13703 and shall change the conditions of approval of an agreement or terminate it when necessary to protect the public interest. Invoking this provision in a notice served on December 13, 2004, and published in the Federal Register at 69 FR 75597 on December 17, 2004, the Board commenced the statutorily required review proceeding.

In its notice, the Board expressed a desire to update its records as to which bureaus are still operating. The Board stated that its records indicate that approvals for the agreements of the following bureaus have expired for lack of timely compliance with the conditions on renewal imposed by the Board during the prior review cycle: ¹ Machinery Haulers Association, Inc.; Motor Carriers Traffic Association; Nationwide Bulk Trucking Association, Inc.; New England Motor Rate Bureau; and Willamette Tariff Bureau, Inc. The Board asked each affected bureau to notify the agency if its records are incorrect.

¹ In EC-MAC Motor Carriers Service Association, Inc., et al., STB Section 5a Application No. 118 (Sub-No. 2), et al. (STB served Oct. 16, 2003), the Board summarily approved the agreements of certain bureaus after noting their full compliance with the required conditions, and, for other bureaus, the Board listed the specific steps required for individual bureau compliance.

On December 29, 2004, two of the aforementioned bureaus—the Nationwide Bulk Trucking Association, Inc., and the Machinery Haulers Association, Inc.—filed information showing that the Board's prior assessment of their compliance status was incorrect and that, therefore, Board authorization of their bureau agreements has not expired. By this notice, the Board is notifying the public that its records have been corrected to show that the antitrust immunity for these bureaus continues in force.

Concerning the extension of the deadlines for comments, the Board is taking this action at the request of the National Motor Freight Traffic Association and its subsidiary, the National Classification Committee, by motion filed on January 6, 2005. They state that the extension is necessary to provide sufficient time to make sure that their comments properly reflect the views of their members.

Board filings, decisions, and notices are available on its Web site at http://www.stb.dot.gov.

This action will not significantly affect either the quality of the human environment or the conservation of energy resources.

Decided: January 19, 2005.
By the Board, Chairman Nober, Vice Chairman Buttrey, and Commissioner Mulvey.
Vernon A. Williams,
Secretary.

[FR Doc. 05-1401 Filed 1-26-05; 8:45 am]

BILLING CODE 4915-01-P